DEPARTMENT OF ENERGY

Federal Energy Regulatory Commission

[Docket No. EL21-47-000]

Green Development, LLC v. New England Power Company, Narragansett Electric Company; Notice of Complaint

Take notice that on February 10, 2021, pursuant to sections 206 and 306, of the Federal Power Act, 16 U.S.C. 824e and 825e and Rule 206 and 212 of the Federal Energy Regulatory Commission's (Commission) Rules of Practice and Procedure, 18 CFR 385.206 and 385.212, Green Development, LLC (Complainant or Green Development) filed a formal complaint against New England Power Company (NEP) and Narragansett Electric Company (NEC) (collectively, Respondents) alleging that: (1) That NEP has assessed, and continues to assess, unauthorized FERC-jurisdictional Direct Assignment Facility Charges (DAF Charges) in connection with four 9.6 MW (AC) solar photovoltaic projects that are interconnected to NEC's distribution system, which charges are not authorized under the Transmission, Markets, and Services Tariff of ISO New England (ISO-NE Tariff); (2) that NEC and NEP have violated and continue to violate the filed-rate (i.e., the ISO-NE Tariff) and FERC precedent through their attempt to pass through the unauthorized DAF Charges to Green Development, and (3) that NEP and NEC have violated and continue to violate the FPA, by seeking to originate and recover unauthorized FERC-jurisdictional DAF Charges via a state jurisdictional tariff. Green Development requests that the Commission find that NEP and NEC's actions are unjust and unreasonable, order the Respondents to cease the unauthorized charges, and to pay refunds as necessary, all as more fully explained in the complaint.

The Complainant certifies that copies of the complaint were served on the contacts listed for Respondents in the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondents' answer and all interventions, or protests must be filed on or before the comment date. The Respondents' answer, motions to intervene, and protests must be served on the Complainant.

The Commission strongly encourages electronic filings of comments, protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov, or call toll-free, (886) 208-3676 or TYY, (202) 502-8659.

Comment Date: 5:00 p.m. Eastern Time on March 2, 2021.

Dated: February 12, 2021.
Nathaniel J. Davis, Sr.,
Deputy Secretary.

[FR Doc. 2021-03379 Filed 2-18-21; 8:45 am]

BILLING CODE 6717-01-P